DEPARTMENT OF ENERGY

[GDO Docket No. EA-345-C]

Application for Renewal of Authorization To Export Electric Energy; New Brunswick Energy Marketing Corporation

AGENCY: Grid Deployment Office, Department of Energy.

ACTION: Notice of application.

SUMMARY: New Brunswick Energy Marketing Corporation (the Applicant or NBEMC) has applied for renewed authorization to transmit electric energy from the United States to Canada pursuant to the Federal Power Act.

DATES: Comments, protests, or motions to intervene must be submitted on or before November 13, 2023.

ADDRESSES: Comments, protests, motions to intervene, or requests for more information should be addressed by electronic mail to Electricity.Exports@hq.doe.gov.

FOR FURTHER INFORMATION CONTACT: Christina Gomer, (240) 474-2403, electricity.exports@hq.doe.gov.

SUPPLEMENTARY INFORMATION: The United States Department of Energy (DOE) regulates electricity exports from the United States to foreign countries in accordance with section 202(e) of the Federal Power Act (FPA) (16 U.S.C. 824a(e)) and regulations thereunder (10 CFR 205.300 et seq.). Sections 301(b) and 402(f) of the DOE Organization Act (42 U.S.C. 7151(b) and 7172(f)) transferred this regulatory authority, previously exercised by the now-defunct Federal Power Commission, to DOE.

Section 202(e) of the FPA provides that an entity which seeks to export electricity must obtain an order from DOE authorizing that export. (16 U.S.C. 824a(e)). On April 10, 2023, the authority to issue such orders was delegated to the DOE's Grid Deployment Office (GDO) by Delegation Order No. S1-DEL-S3-2023 and Redelegation Order No. S3-DEL-GD1-2023.

On December 5, 2008, DOE issued Order No. EA-345, authorizing NBEMC (f/k/a New Brunswick Power Generation Corporation) to transmit electric energy from the United States to Canada as a power marketer. This authority was renewed on December 6, 2013, (Order No. EA-345-A) and on December 5, 2018 (Order No. EA-345-B). On August 23, 2023, NBEMC filed an application with DOE (Application or App) for renewal of their export authority for an additional five-year term. App at 2.

In its Application, NBEMC states that it will purchase power to be exported to Canada from electric utilities in the U.S., federal power marketing agencies, qualifying cogeneration and small power production facilities, independent power producers, and other sellers. App. at 5. NBEMC notes it “does not own any electric generation or transmission facilities and, as a power marketer, does not hold a franchise or service territory or native load obligation.” Id. at 6. NBEMC also states it is not affiliated with an entity that holds a franchise or service territory in the U.S., and “[t]hus, NBEMC has no transmission `system' of its own on which its exports of power could have a reliability or stability impact.” Id. NBEMC asserts DOE has recognized that power purchased by a power marketer is surplus to the needs of the selling entities, and exports of electricity under such circumstances would not impair the sufficiency of electric supply within the U.S. Id. at 7.

The existing international transmission facilities to be utilized by the Applicant have been previously authorized by Presidential permits issued pursuant to Executive Order 10485, as amended, and are appropriate for open access transmission by third parties. See App. at Exhibit C.

Procedural Matters: Any person desiring to be heard in this proceeding should file a comment or protest to the Application at Electricity.Exports@hq.doe.gov. Protests should be filed in accordance with Rule 211 of FERC's Rules of Practice and Procedure (18 CFR 385.211). Any person desiring to become a party to this proceeding should file a motion to intervene at Electricity.Exports@hq.doe.gov in accordance with FERC Rule 214 (18 CFR 385.214).

Comments and other filings concerning NBEMC's Application should be clearly marked with GDO Docket No. EA-345-C. Additional copies are to be provided directly to Tyler S. Johnson, Bracewell LLP, 701 5th Avenue, Suite 3400, Seattle, Washington 98104, tyler.johnson@bracewell.com; Josh R. Robichaud, Bracewell LLP, 2001 M Street NW, Suite 900, Washington, DC 20036, Josh.robichaud@bracewell.com; Tracey L. Bradley, Bracewell LLP, 2001 M Street NW, Suite 900, Washington, DC 20036, tracey.bradley@bracewell.com; and John S. Bird, New Brunswick Energy Marketing Corporation, 515 King Street, 2nd Floor, P.O. Box 2040, Fredericton, New Brunswick, Canada E3B 5G4, jbird@nbpower.com.

A final decision will be made on the requested authorization after the environmental impacts have been evaluated pursuant to DOE's National Environmental Policy Act Implementing Procedures (10 CFR part 1021) and after DOE evaluates whether the proposed action will have an adverse impact on the sufficiency of supply or reliability of the United States electric power supply system.

Copies of this Application will be made available, upon request, by accessing the program website at www.energy.gov/gdo/pending-applications-0 or by emailing Electricity.Exports@hq.doe.gov.

Signing Authority

This document of the Department of Energy was signed on October 6, 2023, by Maria Robinson, Director, Grid Deployment Office, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on October 6, 2023.
Treena V. Garrett,
Federal Register Liaison Officer, U.S. Department of Energy.

[FR Doc. 2023-22597 Filed 10-11-23; 8:45 am]

BILLING CODE 6450-01-P